DEPARTMENT OF HEALTH AND HUMAN SERVICES

Food and Drug Administration

21 CFR Part 201

Labeling

CFR Correction

In Title 21 of the Code of Federal Regulations, parts 200 to 299, revised as of April 1, 2003, in the first sentence of the introductory text of § 201.122, on page 54, the phrase “ ‘Rx only’ ” is removed and the phrase “ ‘Caution: For manufacturing, processing, or repacking’ ” is added in its place, and the phrase “ ‘Caution: Federal law prohibits dispensing without prescription’ ” is removed and the phrase “ ‘Rx only’ ” is added in its place.

[FR Doc. 03-55525 Filed 9-26-03; 8:45 am]

BILLING CODE 1505-01-D